DEPARTMENT OF THE INTERIOR

Fish and Wildlife Service

50 CFR Part 17

RIN 1018-AG99

Endangered and Threatened Wildlife and Plants; Proposed Determination of Critical Habitat for the Oahu Elepaio; Correction

AGENCY: Fish and Wildlife Service, Interior.

ACTION: Proposed rule; correction.

SUMMARY: The proposed rule to designate critical habitat for the Oahu elepaio (Chasiempis sandwichensis ibidis) was published in the Federal Register on June 6, 2001. The maps and legal descriptions of the critical habitat units are correct as published in the Federal Register, but Figure 2 in the background of the proposed rule, which showed the proposed critical habitat units in relation to the current, recent historical, and presumed prehistoric distributions of the Oahu elepaio, is incorrect. This document contains the correct version of Figure 2 with an accurate map of the proposed critical habitat units.

DATES: Comments on the proposed rule that was published June 6, 2001 (66 FR 30372) must be received no later than September 6, 2001.

ADDRESSES: Send written comments on the proposed rule to Paul Henson, Field Supervisor, Pacific Islands Fish and Wildlife Office, U.S. Fish and Wildlife Service, 300 Ala Moana Boulevard, Room 3-122, Box 50088, Honolulu, Hawaii 96850.

FOR FURTHER INFORMATION CONTACT: Paul Henson, Field Supervisor, or Eric VanderWerf, Biologist, at the above address (telephone: 808/541-3441; facsimile: 808/541-3470).

SUPPLEMENTARY INFORMATION: On June 6, 2001, the U.S. Fish and Wildlife Service (Service) published a proposed rule to designate critical habitat for the Oahu elepaio (66 FR 30372). The proposed rule contained correct maps and legal descriptions of the proposed critical habitat units. However, Figure 2 in the background of the proposed rule, which showed the proposed critical habitat units in relation to the current, recent historical, and presumed prehistoric distribution of the Oahu elepaio, showed the proposed critical habitat units incorrectly. Figure 2 erroneously showed an additional habitat unit in the northern Koolau Mountains, and the boundary of the Northern Waianae Unit was inaccurate along its northwestern edge. We are providing a corrected version of Figure 2 that contains an accurate map of the proposed critical habitat units, and which matches the critical habitat units depicted in the legal description of the original proposed rule. Page 30377 of the proposed rule should be replaced with Figure 2 of this correction.

In addition, we attempted to use the correct spelling of Hawaiian words by including diacritical marks (a single grave mark (‘) before a vowel indicating a glottal stop, and a macron or horizontal line above a vowel indicating a longer or stressed vowel sound), but we acknowledge that these marks were not printed correctly in the proposed rule. In the final rule to designate critical habitat for the Oahu elepaio, we will ensure that the Hawaiian diacritical marks are either used correctly or eliminated.

Accordingly, make the following correction to FR Doc. 01-14171 published at 66 FR 30372 on June 6, 2001.

PART 17—[CORRECTED]

1. On page 30377, correct the map for Figure 2 to read as follows:

BILLING CODE 4310-55-P

Dated: August 8, 2001.
Joseph E. Doddridge,
Acting Assistant Secretary for Fish and Wildllife and Parks.

[FR Doc. 01-22179 Filed 9-4-01; 8:45 am]

BILLING CODE 4310-55-C